FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 19, 2019.

A. Federal Reserve Bank of Atlanta (Kathryn Haney, Assistant Vice President) 1000 Peachtree Street NE, Atlanta, Georgia 30309. Comments can also be sent electronically to Applications.Comments@atl.frb.org:

1. Starling Hollis Waldron, David K. Hollis, III, Alexander M. Waldron, Hollis M. Waldron, and Lily S. Waldron, Hahira, Georgia; Miller Starling Hollis, Valdosta, Georgia; and Howard I. Lawson, Morven, Georgia; to retain voting shares of CCB Bancshares, Inc., and thereby indirectly retain voting shares of Citizens Community Bank, both in Hahira, Georgia.

B. Federal Reserve Bank of Chicago (Colette A. Fried, Assistant Vice President) 230 South LaSalle Street, Chicago, Illinois 60690-1414:

1. David J. Cecich, Crown Point, Indiana, and Steven H. Cecich, Grant Park, Illinois, collectively as a group acting in concert; to acquire voting shares of First Community Bancorp, Inc., and thereby indirectly acquire shares of First Community Bank and Trust, both of Beecher, Illinois.

2. Charles Sarazine, individually and on behalf of Maryanna Sarazine, both of Algona, Iowa, and together as a group acting in concert with: Annette Sarazine-Jensen, Omaha, Nebraska; Monte Jensen, Omaha, Nebraska; Lisa Elsenbast, Minneapolis, Minnesota; Frank Elsenbast, Minneapolis, Minnesota; Monica Anderegg, Edina, Minnesota; Julia T. Sarazine, Chicago, Illinois; James C. Spies, Graettinger, Iowa; Karen K. Spies, Graettinger, Iowa; Matt Spies, Spirit Lake, Iowa; Marty Spies, Spirit Lake, Iowa; Krista K. Fuller, Ankeny, Iowa; Lori J. Spies, Brookeville, Maryland; Nicole L. Henrickson, Spirit Lake, Iowa; Molly E. Westergard, Graettinger, Iowa; Samantha A. Spies, Spirit Lake, Iowa; Sydney P. Spies, Spirit Lake, Iowa; to retain shares of Emmetsburg Bank Shares, Inc., Emmetsburg, Iowa, and indirectly retain shares of Iowa Trust & Savings Bank, Emmetsburg, Iowa and Panora State Bank, Panora, Iowa.

C. Federal Reserve Bank of St. Louis (David L. Hubbard, Senior Manager) P.O. Box 442, St. Louis, Missouri 63166-2034. Comments can also be sent electronically to Comments.applications@stls.frb.org:

1. The Fogleman Family Control Group, which consists of Franklin A. Fogleman, Gail Fogleman, Franklin Fogleman, Jr., Laura Fogleman, Lindley Fogleman, Mary Catherine Fogleman, Kelley Fogleman, Reed Fogleman Family Trust, W. David Fogleman, Jennifer Fogleman, Peyton Fogleman, Scott Fogleman, Shireen Fogleman, and Will D. Fogleman Jr., all of Marion, Arkansas; to retain shares of FCB Financial Services, Inc., Marion, Arkansas, and thereby retain shares of First Community Bank of Eastern Arkansas, Marion, Arkansas.

2. Michael D. East, individually, and as a member of a family control group that also includes Baylus East, the Estate of Harry East with Michael D. East as Executor, Gloria East, Michael D. East Jr., and Wilkes East, all of Marion, Arkansas; to retain shares of FCB Financial Services, Inc., and thereby retain shares of First Community Bank both of Eastern Arkansas, Marion, Arkansas.

D. Federal Reserve Bank of Minneapolis (Mark A. Rauzi, Vice President), 90 Hennepin Avenue, Minneapolis, Minnesota 55480-0291:

1. Cara J. Mulder, Wayzata, Minnesota; to acquire voting shares of PSB Financial Shares, Inc., Prinsburg, Minnesota, and thereby indirectly acquire shares of PrinsBank, Prinsburg, Minnesota.

2. Katherine Burgum Itterman, Fargo, North Dakota, and Fred J. Williams III, Fargo, North Dakota, as trustee of the Fred J. Williams III 2012 GST Trust, Fargo, North Dakota; each to acquire shares of First Financial Corporation, and thereby indirectly acquire shares of Bank North, both of Arthur, North Dakota.

E. Federal Reserve Bank of Kansas City (Dennis Denney, Assistant Vice President) 1 Memorial Drive, Kansas City, Missouri 64198-0001:

1. Mary Reisher, Englewood, Colorado; and Nancy Reisher, Denver, Colorado; to retain shares of FirstBank Holding Company, and thereby retain shares of First Bank, both in Lakewood, Colorado.

2. John Jarrett Parker, Aberdeen, Washington, individually and as trustee of various family trusts; to retain shares of Cleo Bancshares, Inc., and thereby indirectly retain shares of Cleo State Bank, both of Cleo Springs, Oklahoma.

3. The 2019 Stephen Forrest Sturm Trust, Denver, Colorado, and John F. Knoeckel, Centennial, Colorado, individually and as trustee, and the 2019 Emily Sarah Sturm Trust, Denver, Colorado, and Patricia A. Pogge, Denver, Colorado, individually and as trustee; to acquire voting shares and to be approved as members of the Sturm Control Group, and thereby acquire shares of Sturm Financial Group, Inc., Denver, Colorado, and its subsidiary, ANB Bank, Denver, Colorado.

4. Trisha A. Robertson and Jeffrey S. Robertson, both of Beemer, Nebraska; Megan E. Moore and Douglas E. Moore, both of Fremont, Nebraska; Ryan D. Steffensmeier and Charissa J. Steffensmeier, both of West Point, Nebraska; Carol S. Steffensmeier, Norfolk, Nebraska; Saige E. Steffensmeier, Beemer, Nebraska; and Samuel D. Steffensmeier and Dana E. Steffensmeier, both of Beemer, Nebraska; to retain shares of First Beemer Corporation, Beemer, Nebraska, and thereby be approved as members of the Steffensmeier Family Group, and thereby retain shares of First Beemer Corporation and its subsidiary, First Community Bank, Beemer, Nebraska.

5. Blake A. Heid, Paola, Kansas, and Barbara A. Heid, Santa Rosa Beach, Florida; as members of the Heid Family Group, to retain voting shares of The Osawatomie Agency, Inc., Osawatomie, Kansas, and thereby indirectly retain shares of First Option Bank, Osawatomie, Kansas.

6. Peter M. Lewis, Recoleta, Santiago, RM, Chile; to retain voting shares of The Osawatomie Agency, Inc., Osawatomie, Kansas, as a member of the Lewis Family Group, and thereby indirectly retain shares of First Option Bank, Osawatomie, Kansas.

F. Federal Reserve Bank of Dallas (Robert L. Triplett III, Senior Vice President) 2200 North Pearl Street, Dallas, Texas 75201-2272:

1. Arthur Haag Sherman, Millette Lewis Sherman, the Sherman 2018 Irrevocable Trust, and Sherman Tectonic FLP LP, all of Houston, Texas, as a group acting in concert; to acquire shares of T Acquisition, Inc., and indirectly acquire T Bank, National Association, both of Dallas, Texas.

Board of Governors of the Federal Reserve System, January 25, 2019.
Yao-Chin Chao,
Assistant Secretary of the Board.

[FR Doc. 2019-00361 Filed 1-30-19; 8:45 am]

BILLING CODE P